FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than April 9, 2001.

A. Federal Reserve Bank of Chicago (Phillip Jackson, Applications Officer) 230 South LaSalle Street, Chicago, Illinois 60690-1414:

1. Ann Manning, Minneapolis, Minnesota; Elizabeth Edwards Manning, Bettendorf, Iowa; Albert Manning and Kim Manning, both of Holt, Michigan; David Manning and Janet Manning, both of West Des Moines, Iowa; John Manning, Lynnette Manning, George Manning, Ona Manning, Matthew Manning and Judith Manning, all of Keosauqua, Iowa; to retain ownership of Van Buren Bancorporation, Keosauqua, Iowa, and thereby indirectly retain additional voting shares of Community First Bank, Keosauqua, Iowa.

Board of Governors of the Federal Reserve System, March 20, 2001.
Robert deV. Frierson
Associate Secretary of the Board.

[FR Doc. 01-7332 Filed 3-23-01; 8:45 am]

BILLING CODE 6210-01-S